NATIONAL TRANSPORTATION SAFETY BOARD

Sunshine Act Meeting Notice

“FEDERAL REGISTER” CITATION OF PREVIOUS ANNOUNCEMENT: Vol. 65, No. 90/Tuesday, May 9, 2000.

PREVIOUSLY ANNOUNCED TIME AND DATE: 9:30 a.m., Tuesday, May 16, 2000.

CHANGE IN MEETING: A majority of the Board Members determined by recorded vote that the business of the Board required moving the Board Meeting date from Tuesday, May 16, 2000 to Wednesday, May 17, 2000 at this time and that no earlier announcement was possible.

FOR MORE INFORMATION CONTACT: Rhonda Underwood, (202) 314-6065.

Dated: May 15, 2000.
Rhonda Underwood,
Federal Register Liaison Officer.

[FR Doc. 00-12592 Filed 5-15-00; 8:45 am]

BILLING CODE 7533-01-M